DEPARTMENT OF TRANSPORTATION

Federal Aviation Administration

Passenger Facility Charge (PFC) Program; Draft FAA Order 5500.1B

AGENCY: Federal Aviation Administration (FAA), DOT.

ACTION: Notice and request for comments.

SUMMARY: This notice announces a request for comments on the draft FAA Order 5500.1B, Passenger Facility Charge. When finalized, this Order will replace Order 5500.1, Passenger Facility Charge, issued on August 9, 2001. This revised Order clarifies and updates statutory and regulatory requirements, including those affected by changes to the PFC statute from multiple FAA reauthorizations.

DATES: Comments must be received on or before September 30, 2016.

ADDRESSES: An electronic copy of draft FAA Order 5500.1B, and comment form, is available after August 4, 2016, through the Internet at the FAA Airports Web site at http://www.faa.gov/airports/. You may submit comments using the Draft PFC Order 5500.1B Comment Form available at the same web address, using any of the following methods:

• Email: 9-faa-arp-pfc-order-55001b@faa.gov.

• Facsimile: (202) 267-5302.

• Mail: FAA Office of Airports, Office of Airport Planning and Programming, Financial Analysis and PFC Branch (APP-510), Room 619E, 800 Independence Avenue SW., Washington, DC 20591.

For more information on the notice and comment process, see the SUPPLEMENTARY INFORMATION section of this document. Privacy:

FOR FURTHER INFORMATION CONTACT: Joe Hebert, Manager, Financial Analysis and Passenger Facility Charge Branch, APP-510, Federal Aviation Administration, 800 Independence Avenue SW., Washington, DC 20591, telephone (202) 267-8375; facsimile (202) 267-5302, email joe.hebert@faa.gov.

SUPPLEMENTARY INFORMATION:

Availability of Documents

You can get an electronic copy of this notice and the Draft PFC Order 5500.1B by visiting the FAA's Airports Web page at http://www.faa.gov/airports/ after August 1, 2016.

Background

The Passenger Facility Charge Program (PFC) is an airport capital funding program, established by the Airport Safety and Capacity Expansion Act of 1990 as amended, 49 U.S.C. 40117 et seq. Order 5500.1, Passenger Facility Charge, issued August 9, 2001, provides instructions and sets forth policy and procedures used in the administration of PFC Program. The PFC Program allows the collection and use of fees up to $4.50 per enplaned passenger at commercial airports controlled by public agencies.

The primary audience for this order is all FAA employees with Passenger Facility Charge (PFC) responsibilities. The secondary audience includes Public Agencies and Air Carriers involved with collecting, using, and reporting PFC revenues. This Order, once finalized, is intended to replace the above referenced 2001 PFC Order with updated information that reflects current legislation, regulation, and policy. The Office of Airports reorganized and revised this Order to clarify what is required by law and policy and to incorporate PFC Updates 35-02 (dated October 5, 2001) though 69-12 (dated September 14, 2012).

Since 2001, there have been substantial changes to the laws, regulation, and policies relating to PFCs.

To incorporate these changes and provide the most useful and current program guidance to agency employees, the Office of Airport Planning and Programming, Financial Assistance Division has drafted an updated version to revise the Order to maximize its clarity. This update is a fundamental rewrite of FAA Order 5500.1, the current version of the PFC Order. The update clarifies the different responsibilities of the FAA Office of Airports staff and those of public agencies applying to collect and use PFCs. The update also clarifies the responsibilities of air carriers collecting, handling, and remitting PFCs to public agencies. This updated version of the Order includes the requirements for all PFC funded projects and can be used as a ready-reference for project-specific requirements.

Invitation for Public Comment

While the FAA generally does not request public comment on internal orders, the agency is offering this opportunity for public comment in recognition of the interest of multiple stakeholders of the aviation industry in PFCs. The agency will consider all comments received by the closing date of the comment period in finalizing this Order. Comments received after that date may be considered if consideration will not delay agency action on the Order.

Comments should be submitted on the Draft PFC Order 5500.1B Comment Form, which is available for downloading at http://www.faa.gov/airports/. Comments that are not submitted on the Draft PFC Order 5500.1B Comment Form may be considered only if consideration will not delay agency action on the Order.

Issued in Washington, DC, on July 29, 2016.
Elliott Black,
Director, Office of Airport Planning and Programming.

[FR Doc. 2016-18670 Filed 8-4-16; 8:45 am]

BILLING CODE 4910-13-P